DEPARTMENT OF DEFENSE

Department of Air Force

Intent To Prepare an Environmental Impact Statement for the Gulf Regional Airspace Strategic Initiative (GRASI) Landscape Initiative

AGENCY: Department of the Air Force, DOD.

ACTION: Notice of Intent.

SUMMARY: The Air Force is issuing this notice to advise the public of its intent to prepare an Environmental Impact Statement (EIS). The Gulf Regional Airspace Strategic Initiative (GRASI) Landscape Initiative (GLI) is a U.S Air Force-led partnership with the State of Florida and other state and federal agencies to expand the capacity of the region to safely host military test and training operations.

Under the GLI EIS, the Air Force's Proposed Action is to utilize Blackwater River State Forest (BRSF) and Tate's Hell State Forest (THSF) for establishing helicopter landing and drop zones, airstrips, and a number of different land and air training activities which currently occur within the interstitial (areas between designated test/training sites) areas of the Eglin Air Force Base (AFB) Range. The Air Force is also proposing to establish up to 12 radar, telemetry, and training emitter sites throughout northwest Florida. The emitter sites would support development of an integrated air defense system, which would provide unique, viable, and robust air training.

Scoping: In order to effectively define the full range of issues to be evaluated in the EIS, the Air Force will determine the scope (i.e. what will be covered and in what detail) by soliciting comments from interested state and federal agencies and interested members of the public through the Federal Register and various media in the local communities near the Proposed Action. The Air Force will also hold a series of scoping meetings to further solicit input regarding the scope of the proposed action and any reasonable alternatives.

DATES: Scoping meetings will be held in the local communities near the state forests. The scheduled dates, times, locations and addresses for the scoping meetings will be published in local media a minimum of 15 days prior to the scoping meetings. The Air Force intends to hold scoping meetings in the following communities on the following dates:

August 27, 2013: Milton Community Center, Gracie Room, 5629 Byrom St., Milton, Florida

August 28, 2013: Blountstown Civic Center, 17773 Ne Pear St., Blountstown, Florida

August 29, 2013: Apalachicola Community Center, 1 Bay Ave, Apalachicola, Florida

Scoping comments can be submitted to the mailing address below or via the GRASI GLI EIS Web site (grasieis.leidoseemg.com) by the date indicated. Comments will be accepted at any time during the environmental impact analysis process. However, to ensure the Air Force has sufficient time to consider public input in the preparation of the Draft EIS, comments should be submitted to the Web site or the address listed below by September 9, 2013.

FOR FURTHER INFORMATION CONTACT: Mr. Mike Spaits, Eglin AFB Public Affairs Office, 96 TW/PA, 101 West D Avenue, Suite 110, Eglin AFB, FL 32542-5499, (850) 882-2836 spaitsm@eglin.af.mil September 9, 2013.

Henry Williams Jr,
DAF, Acting Air Force Federal Register Liaison Officer.

[FR Doc. 2013-19468 Filed 8-9-13; 8:45 am]

BILLING CODE 5001-10-P